DEPARTMENT OF HEALTH AND HUMAN SERVICES

Health Resources and Services Administration

National Advisory Council on Migrant Health Request for Nominations for Voting Members

AGENCY: Health Resources and Services Administration, HHS.

ACTION: Notice.

SUMMARY: The Health Resources and Services Administration (HRSA) is requesting nominations to fill vacancies on the National Advisory Council on Migrant Health (NACMH). The NACMH is authorized under 42 U.S.C. 218, section 217 of the Public Health Service (PHS) Act, as amended and governed by provisions of Public Law 92-463, as amended (5 U.S.C. Appendix 2).

DATES: The agency will receive nominations on a continuous basis.

ADDRESSES: All nominations should be addressed to the Designated Federal Official, NACMH, Strategic Initiatives and Planning Division, Office of Policy and Program Development, Bureau of Primary Health Care, HRSA, 16N38B, 5600 Fishers Lane, Rockville, Maryland 20857 or via email to: Esther Paul at epaul@hrsa.gov and/or Priscilla Charles at PCharles@hrsa.gov.

FOR FURTHER INFORMATION CONTACT: Esther Paul, MBBS, MA, MPH, Designated Federal Official, NACMH, phone number: (301) 594-4496 or via email at epaul@hrsa.gov.

SUPPLEMENTARY INFORMATION: As authorized under section 217 of the Public Health Service Act, as amended, 42 U.S.C. 218, the Secretary established the NACMH. The NACMH is governed by the Federal Advisory Committee Act (5 U.S.C. Appendix 2), which sets forth standards for the formation and use of advisory committees.

The NACMH, consults with and makes recommendations to the Secretary of the Department of Health and Human Services (HHS) and the HRSA Administrator concerning the organization, operation, selection, and funding of migrant health centers and other entities under grants and contracts under section 330 of the PHS Act.

The NACMH Charter requires that the Council consist of 15 members, each serving a 4-year term. Twelve Council members are required to be governing board members of migrant health centers and other entities assisted under section 254(b) of the PHS Act. Of these 12, at least 9 must be patient board members. The remaining three must be individuals qualified by training and experience in the medical sciences or in the administration of health programs. New members filling a vacancy that occurred prior to expiration of a term may serve only for the remainder of such term. Members may serve after the expiration of their terms until their successors have taken office, but no longer than 120 days.

Compensation: Members who are not full-time Federal employees shall be paid at the rate of $200 per day including travel time plus per diem and travel expenses in accordance with Standard Government Travel Regulations.

Specifically, HRSA is requesting nominations for:

• Board Member/Patient (1 vacancy):

A nominee must be a member or member-elect of a governing board of an organization receiving funding or look-alike designation under section 330(g) of the PHS Act. A board member nominee must also be a patient of the entity that he/she represents. Additionally, a board member nominee must be familiar with the delivery of primary health care to migratory and seasonal agricultural workers (MSAWs) and their families.

• Administrator/Provider Representative (1 vacancy)

A nominee must be qualified by training and experience in the medical sciences or in the administration of health programs for MSAWs and their families.

A complete nomination package should include the following information for each nominee:

(1) A NACMH Nomination form; (2) three letters of reference; and (3) a statement of prior service on the NACMH; and (4) a biographical sketch of the nominee or a copy of his/her curriculum vitae. The nomination package must also state that the nominee is willing to serve as a member of the NACMH and appears to have no conflict of interest that would preclude membership. An ethics review is conducted for each selected nominee. Please contact Esther Paul at epaul@hrsa.gov and/or Priscilla Charles at PCharles@hrsa.gov to obtain a nomination form.

HHS strives to ensure that the membership of HHS federal advisory committees is balanced in terms of points of view represented, consistent with the committee's authorizing statute and charter. Appointment to the NACMH shall be made without discrimination on the basis of age, race, ethnicity, gender, sexual orientation, disability, and cultural, religious, or socioeconomic status. The Department encourages nominations of qualified candidates from all groups and locations.

Jason E. Bennett,
Director, Division of the Executive Secretariat.

[FR Doc. 2016-13767 Filed 6-9-16; 8:45 am]

BILLING CODE 4165-15-P